DEPARTMENT OF TRANSPORTATION

Federal Aviation Administration

Notice of Opportunity for Public Comment on a Land Use Change From Aeronautical to Non-Aeronautical Use for 52.41 Acres of Airport Land for Existing Business Park Use at Martha's Vineyard Airport, West Tisbury, MA

AGENCY: Federal Aviation Administration (FAA), DOT.

ACTION: Request for public comments.

SUMMARY: Notice is being given that the FAA is considering a request from Martha's Vineyard Airport to change the current land use from aeronautical use to non-aeronautical use of a 52.41-acre parcel of land. The parcel is located in the Southeastern quadrant of the airport and is currently used for the Airport Business Park. The development does not impact existing aviation land needs nor impacts future aviation land needs of the airport per their most current Airport Layout Plan. The airport obtains fair market value for the lease of the land and is deposited in the airports operations and maintenance account.

DATES: Comments must be received on or before April 1, 2019

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on November 20, 2017.
Gail B. Lattrell,
Director (Acting), ANE-600.

[FR Doc. 2019-03619 Filed 2-28-19; 8:45 am]

BILLING CODE 4910-13-P